DEPARTMENT OF AGRICULTURE

Rural Utilities Service

Georgia Transmission Corporation; Notice of Finding of No Significant Impact

AGENCY: Rural Utilities Service, USDA.

ACTION: Notice of finding of no significant impact.

SUMMARY: Notice is hereby given that the Rural Utilities Service (RUS) has made a finding of no significant impact (FONSI) with respect to a request from Georgia Transmission Corporation for assistance from the RUS to finance the construction of a 230 kV transmission line in Cobb County, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: The project will consist of a 230 kV electric transmission line that will interconnect the existing South Acworth Substation and the existing Hawkins Store Road Substation. It will be 7.1 miles long and will be located near Acworth and Kennesaw, Georgia, in northern Cobb County. The transmission line will require a 25 to 35-foot wide corridor adjacent to existing rights-of-way such as roads and railroads. Where the transmission line will not be adjacent to an existing right-of-way, a 100-foot wide corridor will be necessary. The transmission line will be suspended via concrete or steel single-pole structures which will support three conductors and an overhead ground wire. The support structures will average 75 to 80 feet in height and will be spaced approximately 500 to 600 feet apart.

Copies of the FONSI are available for review at, or can be obtained from, RUS at the address provided herein or from Ms. Susan Ingall, Georgia Transmission Corporation, 2100 East Exchange Place, Tucker, Georgia 30085-2088, telephone (770) 270-7425. Susan's e-mail address is susan.ingall@gatrans.com.

Dated: January 17, 2001.
Blaine D. Stockton,
Assistant Administrator, Electric Program.

[FR Doc. 01-2153 Filed 1-23-01; 8:45 am]

BILLING CODE 3410-15-P